DEPARTMENT OF STATE

[Public Notice 6927]

Suggestions for Environmental Cooperation Pursuant to the United States-Peru Environmental Cooperation Agreement

ACTION: Notice of preparation of the 2011-2012 U.S.-Peru Environmental Cooperation Work Program and request for comments.

SUMMARY: The Department invites the public, including NGOs, educational institutions, private sector enterprises and other interested persons, to submit written comments or suggestions regarding items for inclusion in a new Work Program for implementing the United States-Peru Environmental Cooperation Agreement (ECA), which entered into force in August 2009. The ECA Work Program will focus in particular on the implementation of the Annex on Forest Sector Governance of the U.S.-Peru Trade Promotion agreement (PTPA). Please review the Annex carefully when preparing your ideas and suggestions. We also encourage submitters to refer to: (1) The Environment Chapter of the PTPA, (2) the U.S.-Peru ECA, (3) the U.S.-Peru 2009-2010 Environmental Cooperation Work Program, and (4) the Environmental Review of the PTPA. (Documents are available at: http://www.state.gov/g/oes/env/trade/peru/index.htm).

DATES: To be assured of timely consideration, all written comments or suggestions are requested no later than May 25, 2010.

ADDRESSES: Written comments or suggestions should be e-mailed (trontjm@state.gov) or faxed to Jacqueline Tront ((202) 647-5947), Office of Environmental Policy, Bureau of Oceans and International Environmental and Scientific Affairs, U.S. Department of State, with the subject line “U.S.-Peru Environmental Cooperation Work Program.”

If you have access to the Internet and wish to make comment on this Public Notice, you may do so by going to http://www.regulations.gov/search/Regs/home.html#home.

FOR FURTHER INFORMATION CONTACT: Jacqueline Tront, telephone (202) 647-4750, Office of Environmental Policy, Bureau of Oceans and International Environmental and Scientific Affairs, U.S. Department of State.

SUPPLEMENTARY INFORMATION: In the U.S.-Peru Environmental Cooperation Agreement, the Parties (1) recognize that cooperation is a principal means to contribute to “efforts * * * to ensure that trade and environmental policies are mutually supportive and to promote the optimal use of resources in accordance with the objective of sustainable development” and (2) “establish a framework for enhancing bilateral and/or regional environmental cooperation between the Parties.” In the Environment Chapter of the PTPA (Chapter 18), the Parties likewise “recognize the importance of strengthening their capacity to protect the environment and of promoting sustainable development in concert with strengthening their trade and investment relations.” The Parties commit to “undertaking cooperative environmental activities pursuant to the ECA, including activities related to implementation of the [Environment] Chapter.” In particular, in the Environment Chapter's Annex on Forest Sector Governance, the Parties commit to work cooperatively to implement certain actions required under the Annex, including through capacity-building and other joint initiatives to promote sustainable management of Peru's forest resources, in accordance with the ECA.

Article III of the ECA establishes the Environmental Cooperation Commission (ECC) to coordinate and review environmental cooperation activities. The responsibilities of the ECC include developing and periodically reviewing the work program. The work program is a tool to identify and establish goals, objectives and areas for cooperation, including short-, medium- and long-term bilateral and/or regional projects and activities. The Parties also agree to take into account public comments and recommendations regarding cooperative environmental activities.

In August 2009, the Parties agreed to the 2009-2010 U.S.-Peru Environmental Cooperation Work Program. The main areas of cooperation under the 2009-2010 Work Program are: (1) Institutional and policy strengthening for effective implementation and enforcement of environmental laws, including natural resource-related laws; (2) biodiversity conservation and improved management of forests, protected areas and other ecologically important ecosystems; (3) transparency and public participation in environmental decision-making and enforcement; (4) community and market-based activities; and (5) improved environmental performance in the productive sector. The Parties agreed to focus cooperation on the capacity building activities identified in the Annex on Forest Sector Governance to ensure effective and timely implementation of those obligations. The capacity building activities listed in the Annex include: (a) Strengthening the legal, policy, and institutional framework governing the forest estate and the international trade in forest products; (b) building institutional capacity for forest law enforcement and the international trade in forest products; (c) improving the performance of the forest concession system in meeting economic, social, and ecological objectives; and (d) increasing public participation and improving transparency in forest resource planning and management decision-making.

The United States anticipates building upon the cooperative work initiated in the 2009-2010 Work Program with a primary focus on activities related to the Annex on Forest Sector Governance. We are requesting ideas and suggestions that may be considered for inclusion in the next Work Program.

For additional information: http://www.state.gov/g/oes/env/trade/peru/index.htm.

Disclaimer: This Public Notice is a request for comments and suggestions, and is not a request for applications. No granting or money is directly associated with this request for suggestions for the Work Program. There is no expectation of resources or funding associated with any comments or suggestions provided for the work program.

Dated: April 6, 2010.
Willem H. Brakel,
Director, Office of Environmental Policy, Department of State.

[FR Doc. 2010-8556 Filed 4-13-10; 8:45 am]

BILLING CODE 4710-09-P